DEPARTMENT OF ENERGY

Federal Energy Regulatory Commission

Combined Notice of Filings #1

Take notice that the Commission received the following electric corporate filings:

Docket Numbers: EC16-93-000; EC16-94-000.

Applicants: Atlas Power Finance, LLC, Dynegy Inc., Energy Capital Partners III, LLC, GDF Suez Energy North America, Inc.

Description: Response to June 15, 2016 request for additional information of Atlas Power Finance, LLC, et al.

Filed Date: 7/8/16.

Accession Number: 20160708-5222.

Comments Due: 5 p.m. ET 7/29/16.

Docket Numbers: EC16-147-000.

Applicants: Alcoa Inc., Alcoa Power Generating Inc.

Description: Application for Authorization Under Section 203 of Alcoa Inc. and Alcoa Power Generating Inc.

Filed Date: 7/12/16.

Accession Number: 20160712-5213.

Comments Due: 5 p.m. ET 8/2/16.

Take notice that the Commission received the following electric rate filings:

Docket Numbers: ER14-594-000; ER13-1874-000; ER14-95-000.

Applicants: Ohio Power Company, American Electric Power Service Corporation.

Description: Notice of change in status of American Electric Power Service Corporation, on behalf of Itself, AEP East Operating Companies and AEP Generation Resources Inc. relating to Waivers of the Commission's Affiliate Restrictions under, et al.

Filed Date: 5/2/16.

Accession Number: 20160502-5504.

Comments Due: 5 p.m. ET 8/3/16.

Docket Numbers: ER16-2181-000.

Applicants: PacifiCorp.

Description: Notice of Termination of PacifiCorp of Olene KBG, LLC Agreement for Long-Term Firm Point-to-Point Transmission Service.

Filed Date: 7/12/16.

Accession Number: 20160712-5084.

Comments Due: 5 p.m. ET 8/2/16.

Docket Numbers: ER16-2186-000.

Applicants: Deseret Generation & Transmission Co-operative, Inc.

Description: Market-Based Triennial Review Filing: 2016 Triennial Update to be effective 9/12/2016.

Filed Date: 7/13/16.

Accession Number: 20160713-5020; 20160713-5055.

Comments Due: 5 p.m. ET 9/12/16.

Docket Numbers: ER16-2187-000.

Applicants: Midcontinent Independent System Operator, Inc.

Description: Compliance filing: 2016-07-13_Schedule 2 Rule to Show Cause Compliance EL16-61 to be effective 6/22/2016.

Filed Date: 7/13/16.

Accession Number: 20160713-5027.

Comments Due: 5 p.m. ET 8/3/16.

Docket Numbers: ER16-2188-000.

Applicants: PacifiCorp.

Description: § 205(d) Rate Filing: Clatskanie PUD Transmission IC, Construct & Fac Maint Agmt to be effective 9/12/2016.

Filed Date: 7/13/16.

Accession Number: 20160713-5066.

Comments Due: 5 p.m. ET 8/3/16.

Docket Numbers: ER16-2189-000.

Applicants: NSTAR Electric Company.

Description: Initial rate filing: HQUS Transfer Agreement (2018-2020) to be effective 1/1/2018.

Filed Date: 7/13/16.

Accession Number: 20160713-5110.

Comments Due: 5 p.m. ET 8/3/16.

Take notice that the Commission received the following electric securities filings:

Docket Numbers: ES16-43-000.

Applicants: Northern Pass Transmission LLC.

Description: Application for Authority to Issue Debt Securities of Northern Pass Transmission LLC.

Filed Date: 7/12/16.

Accession Number: 20160712-5182.

Comments Due: 5 p.m. ET 8/2/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 13, 2016.
Nathaniel J. Davis, Sr.,
Deputy Secretary.

[FR Doc. 2016-17103 Filed 7-19-16; 8:45 am]

BILLING CODE 6717-01-P